DEPARTMENT OF THE INTERIOR

Bureau of Indian Affairs

[AAK6006201 134A2100DD AOR3B3030.999900]

Draft Environmental Impact Statement for the Proposed RES Americas Moapa Solar Energy Center, Clark County, Nevada

AGENCY: Bureau of Indian Affairs, Interior.

ACTION: Notice of availability.

SUMMARY: This notice advises the public that the Bureau of Indian Affairs (BIA), as the lead Federal agency, with the Bureau of Land Management (BLM), the Environmental Protection Agency (EPA), the National Park Service (NPS), and the Moapa Band of Paiute Indians (Tribe) as Cooperating Agencies, intends to file a draft environmental impact statement (DEIS) for the proposed RES Americas Moapa Solar Energy Center on the Moapa River Indian Reservation (Reservation) in Clark County, Nevada. This notice also announces that the DEIS is now available for public review and that public meetings will be held to solicit comments on the DEIS.

DATES: The date and locations of the public meetings will be announced at least 15 days in advance through notices in the following local newspapers: Las Vegas Sun, Las Vegas Review Journal and the Moapa Valley Progress and on the following Web site: www.MoapaSolarEnergyCenterEIS.com. In order to be fully considered, written comments on the DEIS must arrive no later than 45 days after EPA publishes its Notice of Availability in the Federal Register.

ADDRESSES: You may mail, email, hand carry or telefax written comments to Ms. Amy Heuslein, Regional Environmental Protection Officer, BIA Western Regional Office, Branch of Environmental Quality Services, 2600 North Central Avenue, 4th Floor Mail Room, Phoenix, Arizona 85004-3008; fax (602) 379-3833; email: amy.heuslein@bia.gov.

FOR FURTHER INFORMATION CONTACT: Ms. Amy Heuslein or Mr. Garry Cantley, BIA Western Regional Office, Branch of Environmental Quality Services, 2600 North Central Avenue, Phoenix, Arizona 85004-3008, telephone (602) 379-6750.

SUPPLEMENTARY INFORMATION: The purpose of the Proposed Project is to construct a 200 megawatt (MW) solar electric generation facility, water line, and associated infrastructure on the Reservation, and obtain a right-of-way (ROW) grant on BLM lands for a 230 kV and/or 500 kV transmission line and associated access roads. The primary need for the Proposed Project is to provide land lease income, sustainable renewable resources, new jobs and other benefits for the Tribe by using solar resources on Reservation lands where there is high potential for solar electric generation. A secondary need for the Proposed Project is to assist utilities in meeting their renewable energy goals by providing electricity generated from solar resources from Tribal lands that may be efficiently connected to existing transmission lines in a manner that minimizes adverse site impacts.

The proposed Federal action is the BIA approval of a solar energy ground lease and agreements entered into by the Tribe with Moapa Solar LLC (Applicant), and approval of ROWs and easements for the Applicant to construct, operate and maintain an up-to 200 MW solar photovoltaic (PV) electricity generating facility and water pipeline on the Reservation. The proposed Federal action also includes the BLM approval of ROWs for the 230 kV and 500 kV transmission lines and access roads on BLM-administered Federal lands, and the BLM approval of ROWs for the portions of the 500 kV transmission line and water pipeline located within an existing utility corridor located on the Reservation.

The BIA and BLM will use the EIS to make decisions on the land lease and ROW applications under their respective jurisdiction; the EPA and NPS may use the document to make decisions under their authorities; the Tribe may use the EIS to make decisions under their Tribal Environmental Policy Ordinance; and the U.S. Fish and Wildlife Service may use the EIS to support its decision under the Endangered Species Act.

Directions for Submitting Comments: Please include your name, return address and the caption “DEIS Comments, Proposed Moapa Solar Energy Center” on the first page of your written comments.

Locations where the DEIS is Available for Review: The DEIS will be available for review at: BIA Western Regional Office, 2600 North Central Avenue, 12th Floor, Suite 210, Phoenix, Arizona; BIA Southern Paiute Agency, 180 North 200 East, Suite 111, St. George, Utah; and the BLM Southern Nevada District Office, 4701 N. Torrey Pines Drive, Las Vegas, Nevada. The DEIS is also available on line at: www.MoapaSolarEnergyCenterEIS.com. To obtain a compact disk copy of the DEIS, please provide your name and address in writing or by voicemail to Ms. Amy Heuslein or Mr. Garry Cantley. Their contact information is listed in the FOR FURTHER INFORMATION CONTACT section of this notice. Individual paper copies of the DEIS will be provided only upon request.

Public Comment Availability: Written comments, including names and addresses of respondents will be available for public review at the BIA mailing addresses shown in the ADDRESSES section during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Dated: August 30, 2013.
Kevin K. Washburn,
Assistant Secretary—Indian Affairs.

[FR Doc. 2013-21652 Filed 9-4-13; 8:45 am]

BILLING CODE 4310-W7-P